DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule Committee (Committee) will meet in Atlanta, Georgia. The Committee operates in compliance with the Federal Advisory Committee Act (FACA). Committee information can be found at the Committee's Web site at: http://www.fs.usda.gov/main/planningrule/committee.

DATES: The meeting will be held on the following dates and times:

• Wednesday, August 2, 2017, from 1:30 p.m. to 5:30 p.m. EST.

• Thursday, August 3, 2017, from 8:30 a.m. to 5:00 p.m. EST.

All meetings are subject to cancellation. For updated status of meetings prior to attendance, please contact the person listed under For Further Information Contact.

ADDRESSES: The meeting will be held at the Residence Inn Atlanta Midtown, 1365 Peachtree Street Northeast, Atlanta, Georgia. For anyone who would like to attend via web connection and/or conference call, please visit the Web site listed above or contact the person listed under For Further Information Contact.

Written comments may be submitted as described under Supplementary Information. All comments, including names and addresses, when provided, are placed in the record and available for public inspection and copying. The public may inspect comments received at the USDA Forest Service Washington Office—Yates Building. Please call ahead to facilitate entry into the building.

FOR FURTHER INFORMATION CONTACT: Crystal Merica, Committee Coordinator, by phone at 202-205-3562, or by email at ckmerica@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to provide:

1. Continued deliberations on formulating advice for the Secretary,

2. Discussion of Committee work group findings,

3. Hearing public comments, and

4. Administrative tasks.

This meeting is open to the public. The agenda will include time for people to make oral comments of three minutes or less. Individuals wishing to make an oral comment should submit a request in writing by July 28, 2017, to be scheduled on the agenda. Anyone who would like to bring related matters to the attention of the Committee may file written statements with the Committee's staff before or after the meeting. Written comments and time requests for oral comments must be sent to Crystal Merica, USDA Forest Service Washington Office—Yates Building, 201 14th Street Southwest, Mail Stop 1104, Washington, DC, 20250-1104; or by email at ckmerica@fs.fed.us. The agenda and summary of the meeting will be posted on the Committee's Web site within 21 days of the meeting.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Leslie Weldon,
Deputy Chief, National Forest System.

[FR Doc. 2017-14413 Filed 7-10-17; 8:45 am]

BILLING CODE 3411-15-P